FEDERAL ELECTION COMMISSION

Sunshine Act Meeting

Previously Announced Date & Time: Thursday, October 12, 2000, 10 a.m., meeting open to the public.

The following items were added to the agenda:

Status of Regulations—October 2000 Monthly Update

Conference Planning Procurement Recommendation

Date & Time: Tuesday, October 17, 2000 at 10 a.m.

Place: 999 E Street, NW., Washington, DC.

Status: This meeting will be closed to the public.

Items to be discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, October 19, 2000 at 10 a.m.

Place: 999 E Street, NW., Washington, DC (ninth floor)

Status: This meeting will be open to the public.

Items to be discussed: Correction and Approval of Minutes.

Draft Advisory Opinion 2000-29: The Honorable W.J. “Billy” Tauzin, United States House of Representatives, joined by House Members: Richard H. Baker, John Cooksey, Jim McCrery, David Vitter, William Jefferson, Chris John, and by Senators John Breaux and Mary Landrieu.

Dole for President, Inc.—Statement of Reasons (LRA#467).

Dole/Kemp '96, Inc.—Statement of Reasons (LRA#506).

Administrative Matters.

Person to contact for information: Mr. Ron Harris, Press Officer, telephone: (202) 694-1220.

Mary W. Dove,
Acting Secretary.

[FR Doc. 00-26358 Filed 10-10-00; 1:32 pm]

BILLING CODE 6715-01-M